DEPARTMENT OF HEALTH AND HUMAN SERVICES

Health Resources and Services Administration

[CFDA 93.223]

Cooperative Agreement for Border Health Best Practices

AGENCY: Office of Rural Health Policy, HRSA, DHHS.

ACTION: Notice of Single Source Award.

SUMMARY: The Office of Rural Health Policy (ORHP), in cooperation with the Office of Global Health Affairs (OGHA), Office of Minority Health (OMH), Office on Women's Health (OWH), and Centers for Disease Control and Prevention (CDC) will award a one year single source award to the U.S.-Mexico Border Health Association (USMBHA) to identify and promote best practices in border communities. As defined in the La Paz Agreement, the border region is 100 km north and south of the international boundary line between the United States and Mexico. Funds will be used on both sides of the U.S.-Mexico border for the development of activities under the second annual Border Binational Health Week (October 10-16, 2005).

FOR FURTHER INFORMATION CONTACT: Elizabeth Rezai-zadeh, Office of Rural Health Policy, Room 9A-55, 5600 Fishers Lane, Rockville, MD 20857. Telephone: 301-443-4107. E-mail: erezai@hrsa.gov.

SUPPLEMENTARY INFORMATION:

Intended Recipient of the Award

U.S.-Mexico Border Health Association in El Paso, TX.

Amount of the Award

$383,000.

Authority

42 U.S.C. 912; 42 U.S.C. 300u-2; 42 U.S.C. 300u-6; and 42 U.S.C. 247b.

Project Period

The project period of the award will begin on September 1, 2005 and will last through August 31, 2006.

Justification for the Exception to Competition

On March 31, 2005, ORHP announced a Border Health Best Practices Cooperative Agreement (Announcement #HRSA 05-130). ORHP received only one application that was from an entity, as ORHP understood, would have had significant administrative issues to overcome in order to fulfill the requirements of the announcement. Given the response from the initial competition, there are not many applicants along the border who are capable of performing the breadth of these activities. ORHP has identified USMBHA as the only entity with the capacity to fill the void and to work in partnership with HRSA to organize events in the short time frame before the Border Binational Health Week (BBHW) celebration with Mexico is scheduled to take place. USMBHA is eminently qualified to receive a single source award. USMBHA was formally created in 1943 and is composed of health professionals from both Mexico and the United States. Annual meetings have occurred without interruption since this time with involvement from senior Federal, State, and local officials from both countries. Furthermore, USMBHA has worked with the U.S.-Mexico Border Health Commission, HRSA and other Federal Agencies in the past and were involved in last year's BBHW celebration.

Dated: September 16, 2005.
Elizabeth M. Duke,
Administrator.

[FR Doc. 05-19018 Filed 9-22-05; 8:45 am]

BILLING CODE 4165-15-P